OVERSEAS PRIVATE INVESTMENT CORPORATION

Submission for OMB Review

AGENCY: Overseas Private Investment Corporation (OPIC).

ACTION: Notice and request for comments.

SUMMARY: Under the provisions of the Paperwork Reduction Act, agencies are required to publish a Notice in the Federal Register notifying the public that the agency has prepared an information collection for OMB review and approval and has requested public review and comment on the submission. Comments are being solicited on the need for the information; the accuracy of the Agency's burden estimate; the quality, practical utility, and clarity of the information to be collected; and ways to minimize reporting the burden, including automated collected techniques and uses of other forms of technology.

Minor revisions are being made to improve the clarity of the questions and to allow the optional submission of additional information.

DATES: Comments must be received within 60 calendar-days of publication of this Notice.

ADDRESSES: Direct comments and requests for copies of the subject form to the Agency Submitting Officer: James Bobbitt, Records Manager, Overseas Private Investment Corporation, 1100 New York Avenue NW., Washington, DC 20527.

FOR FURTHER INFORMATION CONTACT: Agency Submitting Officer: James Bobbitt, Records Manager, (202) 336-8558.

SUPPLEMENTARY INFORMATION:

Summary Form Under Review

Type of Request: Revision of currently approved information collection.

Title: Aligned Capital Investee Opt-In.

Form Number: OPIC-255.

Frequency of Use: Once per investor per project.

Type of Respondents: Business or other institution.

Standard Industrial Classification Codes: All.

Description of Affected Public: Companies investing overseas.

Reporting Hours: 37.5 hours (.5 hours per project).

Number of Responses: 75 per year.

Federal Cost: $0.

Authority for Information Collection: Sections 231 and 239(d) of the Foreign Assistance Act of 1961, as amended.

Abstract (Needs and Uses): The Aligned Capital Investee Opt-In is a document used by companies seeking investments or grant funding to place their information into OPIC's Aligned Capital Program. The Aligned Capital Program is a pilot program that OPIC has designed to align development finance with other capital, including philanthropic, socially responsible and impact investment, to enable effective deployment of that capital towards projects in the countries and sectors in which OPIC works.

Dated: September 1, 2017.
Nichole Skoyles,
Administrative Counsel, Administrative Affairs, Department of Legal Affairs.

[FR Doc. 2017-18968 Filed 9-6-17; 8:45 am]

BILLING CODE P